DEPARTMENT OF ENERGY

Western Area Power Administration

Request for Interest for Purchase of Long-Term Firm Electrical Energy With Capacity or Non-Firm Electrical Energy

AGENCY: Western Area Power Administration, DOE.

ACTION: Notice of Availability of Request for Interest for Purchase of Long-Term Firm Electrical Energy with Capacity or Non-Firm Electrical Energy.

SUMMARY: The Western Area Power Administration (Western), a Federal power marketing agency of the Department of Energy, announces the availability of a Request for Interest (RFI) for the Purchase of Long-Term Firm Electrical Energy with Capacity or Non-Firm Electrical Energy. Western seeks to determine whether suppliers are interested in providing Western with long-term firm energy with capacity, non-firm energy, or a combination of the two for a contract term to exceed five years but terminating no later than September 2024. The energy would be delivered to Western's Rocky Mountain Region's (RMR) Loveland Area Projects (LAP) at one or more of four points of delivery located within the Western Area Colorado Missouri (WACM) balancing authority.

DATES: Responses to the RFI must be received by Western on or before 4 p.m. MDT September 10, 2009.

ADDRESSES: Send written responses to: Regional Manager, Rocky Mountain Customer Service Region, Western Area Power Administration, 5555 East Crossroads Boulevard, Loveland, CO 80538-8986. Comments may be delivered by certified mail, commercial mail, e-mail LAPlongtermRFI@wapa.gov, or fax 970-461-7204.

FOR FURTHER INFORMATION CONTACT: For further information or to obtain a copy of the RFI, please contact Mr. John Gierard, Western Area Power Administration, Rocky Mountain Customer Service Region, Federal Power Programs, P.O. Box 3700, Loveland, CO 80539-3003, (970) 461-7445, fax (970) 461-7204, or e-mail LAPlongtermRFI@wapa.gov. The RFI is also available on Western's Web site at http://www.wapa.gov/fedreg/FRNpdfs/RMR2009 Long-Term Resource RFI.pdf.

SUPPLEMENTARY INFORMATION: Responses to the RFI will allow Western to determine how it chooses to supplement LAP Federal hydroelectric generation. Delivery points and maximum amounts of monthly on-peak and off-peak firm electrical energy with capacity or non-firm electrical energy are listed in the RFI. The RFI does not specify a maximum price for firm electrical energy with capacity or non-firm electrical energy.

Dated: July 31, 2009.
Timothy J. Meeks,
Administrator.

[FR Doc. E9-19225 Filed 8-10-09; 8:45 am]

BILLING CODE 6450-01-P